DEPARTMENT OF ENERGY

Federal Energy Regulatory Commission

[Project No. 12318-001]

Edgewater, LLC; Notice of Surrender of Preliminary Permit

November 14, 2003.

Take notice that Edgewater, LLC, permittee for the proposed Ball Band Hydro Works Project, has requested that its preliminary permit be terminated. The permit was issued on February 11, 2003, and would have expired on January 31, 2006.¹ The project would have been located on the St. Joseph River in St. Joseph County, Indiana.

¹ 102 FERC ¶ 62,096.

The permittee filed the request on October 20, 2003, and the preliminary permit for Project No. 12318 shall remain in effect through the thirtieth day after issuance of this notice unless that day is a Saturday, Sunday, or holiday as described in 18 CFR 385.2007, in which case the permit shall remain in effect through the first business day following that day. New applications involving this project site, to the extent provided for under 18 CFR part 4, may be filed on the next business day.

Magalie R. Salas,
Secretary.

[FR Doc. E3-00343 Filed 11-20-03; 8:45 am]

BILLING CODE 6717-01-P